DEPARTMENT OF TRANSPORTATION

Federal Aviation Administration

[Docket No. FAA-2020-1051]

Agency Information Collection Activities: Requests for Comments; Clearance of New Approval of Information Collection: Unmanned Aircraft Systems (UAS) BEYOND and Partnership for Safety Plan (PSP) Programs

AGENCY: Federal Aviation Administration (FAA), DOT.

ACTION: Notice and request for comments.

SUMMARY: In accordance with the Paperwork Reduction Act of 1995, FAA invites public comments about our intention to request the Office of Management and Budget (OMB) approval for a new information collection. The collection involves data and report submissions by State, local and tribal participants in the UAS BEYOND program, and by industry participants in the Partnership for Safety Plan (PSP) program. UAS BEYOND and PSP participants will also conduct qualitative, non-statistical surveys of the general public. The information to be collected will be used to inform FAA policy and decision-making regarding integrating UAS into the National Airspace System.

DATES: Written comments should be submitted by June 1, 2021.

ADDRESSES: Please send written comments:

By Electronic Docket: www.regulations.gov (Enter docket number into search field)

By Mail: Corbin Jones, Federal Aviation Administration, 470 L'Enfant Plaza, Washington, DC 20024

By Fax: 202-267-4193

FOR FURTHER INFORMATION CONTACT: Corbin Jones by email at: corbin.t.jones@faa.gov; phone: 202-641-8950.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-XXXX.

Title: Unmanned Aircraft Systems (UAS) BEYOND and Partnership for Safety Plan (PSP) Programs.

Form Numbers:

• UAS Flight Anomaly Report (Pending)

• UAS Characteristics Report (Pending)

• Standard UAS Monthly Operational Flight Report (Pending)

• Part 107 UAS Monthly Operational Flight Report (Pending)

• 44807 UAS Monthly Operational Flight Report (Pending)

• 40102(a)_41025 COA UAS Monthly Operational Flight Report (Pending)

• UAS Monthly Maintenance Report (Pending)

• UAS Test Data Submission Form (Pending)

• BEYOND Semi-Annual Report (Pending)

• PSP Quarterly Report (Pending)

• BEYOND Final Report (Pending)

• PSP Final Report (Pending)

• Community Engagement Data Submission Form (Pending)

• Societal and Economic Data Submission Form (Pending)

• BEYOND Program Withdrawal Report (Pending)

• Community Engagement Tool (Pending)

Type of Review: New information collection. Background: The data collected during the Unmanned Aircraft Systems (UAS) BEYOND and Partnership for Safety Plan (PSP) programs is delineated as part of the Memorandum of Agreement (MOA) or Memorandum of Understanding (MOU) each Lead Participant or industry partner participant signs with the FAA, and entered into under the authority of 49 U.S.C. 106(l) and (m). There are five types of data collection.

First, participants submit narrative reports to inform the FAA of operational trends, and highlight successes and failures and their causes. The purpose of the narrative reports is to help the FAA make policy and resource decisions, especially in regards to the challenges and lessons learned in integrating UAS into the NAS. These include Semi-Annual, Final and Program Withdrawal Reports for the UAS BEYOND program and Quarterly and Final Reports for the PSP program.

Second, participants submit systems and operations data, including UAS Data, Maintenance Data, Operational Flight Data, Test Data and Anomaly Data. The purpose of these submissions is to inform policy and decision-making related to the risks associated with operations involving command and control (C2) links, DAA capabilities, anomaly detection and a host of other categories, in order to solve challenges in enabling UAS BVLOS operations and to fully integrate various operation types into the NAS.

Third, participants submit quantitative and qualitative data related to the societal and economic benefits of their UAS operations. The information will be used to inform FAA policy and decision-making toward integrating different types of operations into the NAS, and to inform discussions with the public on the benefits of using UAS. These will be submitted with the Semi-Annual BEYOND reports or the Quarterly PSP reports.

Fourth, participants submit quantitative and qualitative data related to their community engagement activities. The information will be used to inform FAA policy and decision-making on how to best engage the public in discussions about the use of UAS in their communities, and to give insight into the public's desire or resistance toward approvals of different types of operations in various communities. These will be submitted with the Semi-Annual BEYOND reports or the Quarterly PSP reports.

Fifth, participants collect and submit data collected from the general public using questions provided in community engagement tool. The objective is to gather general information about community sentiment to be shared within FAA and with external stakeholders, and to assist in the development of artifacts such as best practices and lessons learned documents. Those artifacts can then be shared with UAS stakeholders to help inform their stakeholder engagement activities. It is not meant to be statistical in nature, nor to provide statistically significant information for policy or decision-making. This data will be submitted with the Semi-Annual BEYOND reports or the Quarterly PSP reports.

Respondents: Depending on the submission, the respondents are three groups:

1. Business or other for-profit—PSP participants only

2. State, Local or Tribal Government—BEYOND participants only

3. Individuals or Households

See the following table for details.

Frequency: The frequency depends on the report or form. See the following table for details.

Estimated Average Burden per Response: Depending on the submission, the overall estimated average burden per response varies from 5 minutes to 80 hours. See the following table for details.

Estimated Total Annual Burden: The estimated total annual burden for all submissions is 17,190.91 hours. See the following table for a breakdown by report or form.

Submission | Affected public | Frequency | Number of respondents | Total number of responses | Estimated average burden per response (hours) | Estimated total annual burden (hours)
Reports and Accompanying Submissions
PSP Quarterly Submissions | Business or other for-profit, PSP participants only | Quarterly | 7.00 | 28.00 | 80.00 | 2,240.00
BEYOND Semi-Annual Submissions | State, Local or Tribal Government, BEYOND participants only | Semi-Annually | 12.00 | 24.00 | 80.00 | 1,920.00
PSP and BEYOND Final Reports | Business or other for-profit—PSP participants only, and State, Local or Tribal Government—BEYOND participants only | One-Time Submission | 19.00 | 6.33 | 40.00 | 253.33
BEYOND Program Withdrawal Reports | State, Local or Tribal Government, BEYOND participants only | Occasional | 12.00 | 4.00 | 40.00 | 160.00
Systems and Operations Data
UAS Monthly Operational Flight Reports and Maintenance Reports | Business or other for-profit—PSP participants only, and State, Local or Tribal Government—BEYOND participants only | Monthly | 19.00 | 456.00 | 1.00 | 456.00
UAS Aircraft Characteristics Submissions | Business or other for-profit—PSP participants only, and State, Local or Tribal Government—BEYOND participants only | On Occasion—for each New Aircraft—Assuming average 25 annual submissions | 19.00 | 475.00 | 0.20 | 95.00
UAS Anomaly Reports | Business or other for-profit—PSP participants only, and State, Local or Tribal Government—BEYOND participants only | On Occasion—Assuming 10 annually per participant | 19.00 | 190.00 | 1.00 | 190.00
Optional Ad Hoc Test Data Submissions | Business or other for-profit—PSP participants only, and State, Local or Tribal Government—BEYOND participants only | Ad hoc | 19.00 | 19.00 | 0.08 | 1.58
Community Engagement Tool | Individuals or Households | On Occasion | 47,500.00 | 47,500.00 | 0.25 | 11,875.00
Totals |  |  | 47,626.00 | 48,702.33 | 0.35 | 17,190.91

Issued in Washington, DC, on February 16, 2021.
Corbin Jones,
Support Team Manager, BEYOND Program, Unmanned Aircraft Systems Integration Office, Federal Aviation Administration.

[FR Doc. 2021-06490 Filed 3-29-21; 8:45 am]

BILLING CODE 4910-13-P